DEPARTMENT OF AGRICULTURE

Animal and Plant Health Inspection Service

9 CFR Part 77

[Docket No. 05-010-2]

Tuberculosis in Cattle and Bison; State and Zone Designations; California

AGENCY: Animal and Plant Health Inspection Service, USDA.

ACTION: Affirmation of interim rule as final rule.

SUMMARY: We are adopting as a final rule, without change, an interim rule that amended the bovine tuberculosis regulations regarding State and zone classifications by raising the designation of California from modified accredited advanced to accredited-free. The interim rule was based on our determination that California met the criteria for designation as an accredited-free State.

EFFECTIVE DATE: The interim rule became effective on April 15, 2005.

FOR FURTHER INFORMATION CONTACT: Dr. Michael Dutcher, Senior Staff Veterinarian, National Tuberculosis Eradication Program, Ruminant Health Programs, National Center for Animal Health Programs, VS, APHIS, 4700 River Road Unit 43, Riverdale, MD 20737-1231, (301) 734-5467.

SUPPLEMENTARY INFORMATION:

Background

In an interim rule effective and published in the Federal Register on April 15, 2005 (70 FR 19877-19878, Docket No. 05-010-1), we amended the bovine tuberculosis regulations regarding State and zone classifications by raising the designation of California from modified accredited advanced to accredited-free. The interim rule was based on our determination that California met the criteria for designation as an accredited-free State.

Comments on the interim rule were required to be received on or before June 14, 2005. We received two comments by that date, from a State agricultural agency and a cattlemen's industry group. Both commenters supported the interim rule.

Therefore, for the reasons given in the interim rule, we are adopting the interim rule as a final rule.

This action also affirms the information contained in the interim rule concerning Executive Order 12866 and the Regulatory Flexibility Act, Executive Orders 12372 and 12988, and the Paperwork Reduction Act.

Further, for this action, the Office of Management and Budget has waived its review under Executive Order 12866.

List of Subjects in 9 CFR Part 77

Animal diseases, Bison, Cattle, Reporting and recordkeeping requirements, Transportation, Tuberculosis.

PART 77—TUBERCULOSIS

Accordingly, we are adopting as a final rule, without change, the interim rule that amended 9 CFR part 77 and that was published at 70 FR 19877-19878 on April 15, 2005.

Done in Washington, DC, this 21st day of July 2005.
Elizabeth E. Gaston,
Acting Administrator, Animal and Plant Health Inspection Service.

[FR Doc. 05-14986 Filed 7-28-05; 8:45 am]

BILLING CODE 3410-34-P